DEPARTMENT OF LABOR

Employment and Training Administration

[TA-W-58,670]

SLM Electronics, St. Louis Music Inc. Division, Yellville, AR; Notice of Termination of Investigation

Pursuant to Section 221 of the Trade Act of 1974, as amended, an investigation was initiated on January 19, 2006 in response to a worker petition filed by a state agency representative on behalf of workers at SLM Electronics Division of St. Louis Music Inc., Yellville, Arkansas.

The petitioner has requested that the petition be withdrawn. Consequently, the investigation has been terminated.

Signed at Washington, DC, this 14th day of March 2006.
Linda G. Poole,
Certifying Officer, Division of Trade Adjustment Assistance.

[FR Doc. E6-4599 Filed 3-28-06; 8:45 am]

BILLING CODE 4510-30-P